COMMISSION ON CIVIL RIGHTS

Notice of Public Meeting of the Guam Advisory Committee to the U.S. Commission on Civil Rights

AGENCY: U.S. Commission on Civil Rights.

ACTION: Announcement of public meeting.

SUMMARY: Notice is hereby given, pursuant to the provisions of the rules and regulations of the U.S. Commission on Civil Rights (Commission) and the Federal Advisory Committee Act, that the Guam Advisory Committee (Committee) to the U.S. Commission on Civil Rights will hold a business meeting at 9:00 a.m. ChST on Wednesday, August 30, 2023, (7:00 p.m. ET on Tuesday, August 29, 2023) in the Anthony Leon Guerrero Multipurpose Room at the University of Guam (32 University Drive, Mangilao, Guam 96913). The purpose of the meeting is to collect input from members of the public on potential civil rights topics of study for the Committee's investigation.

DATES: Wednesday, August 30, 2023, from 9 a.m.-11 a.m. ChST (Tuesday, August 29, 2023, from 7 p.m.-9 p.m. ET).

ADDRESSES: University of Guam, 32 University Drive, Mangilao, Guam 96913; Anthony Leon Guerrero Multipurpose Room.

FOR FURTHER INFORMATION CONTACT: Kayla Fajota, DFO, at kfajota@usccr.gov or (434) 515-2395.

SUPPLEMENTARY INFORMATION: Any interested member of the public may attend this committee meeting. An open comment period will be provided to allow members of the public to make a statement as time allows. Per the Federal Advisory Committee Act, public minutes of the meeting will include a list of persons who are present at the meeting. To request accommodations, please email Liliana Schiller, Support Services Specialist, at lschiller@usccr.gov at least 10 business days prior to the meeting.

Members of the public are entitled to submit written comments; the comments must be received in the regional office within 30 days following the meeting. Written comments may be emailed to Kayla Fajota at kfajota@usccr.gov. Persons who desire additional information may contact the Regional Programs Coordination Unit at (312) 353-8311.

Records generated from this meeting may be inspected and reproduced at the Regional Programs Coordination Unit, as they become available, both before and after the meeting. Records of the meeting will be available via www.facadatabase.gov under the Commission on Civil Rights, Guam Advisory Committee link. Persons interested in the work of this Committee are directed to the Commission's website, http://www.usccr.gov, or may contact the Regional Programs Coordination Unit at lschiller@usccr.gov.

Agenda

I. Welcome & Roll Call

II. Introductory Remarks

III. Public Comment

IV. Committee Discussion

V. Next Steps

VI. Adjournment

Dated: July 25, 2023.
David Mussatt,
Supervisory Chief, Regional Programs Unit.

[FR Doc. 2023-16091 Filed 7-28-23; 8:45 am]

BILLING CODE P